DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in flood-prone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground. (modified)
City of Lynchburg, Virginia
Docket No.: FEMA—B-7715
Virginia | City of Lynchburg | Burton Creek | Confluence with Blackwater Creek | +660
|  |  | Approximately 1800 feet upstream of Wards Ferry Road | +758
|  | Burton Creek Tributary No. 1 | Confluence with Burton Creek | +758
|  |  | Approximately 1.0 mile upstream of confluence with Burton Creek | +870
|  | Tributary No. 2 | Confluence with Burton Creek Tributary No. 1 | +767
|  |  | Approximately 950 feet upstream of Wade Land | +844
|  | Tributary No. 3 | Confluence with Burton Creek | +758
|  |  | Approximately 2300 feet upstream of confluence with Burton Creek | +841
|  | Tributary No. 4 | Confluence with Burton Creek | +755
|  |  | Approximately 0.5 mile upstream of Wards Ferry Road | +836
|  | Tributary No. 5 | Confluence with Burton Creek | +755
|  |  | Approximately 850 feet upstream of confluence with Burton Creek | +768
|  | Tributary No. 6 | Confluence with Burton Creek | +720
|  |  | Approximately 1250 feet upstream of confluence with Burton Creek | +757
|  | Rock Castle Creek | Confluence with Burton Creek | +740
|  |  | Just upstream of Wards Ferry Road | +810
|  | Tributary No. 4 | Confluence with Rock Castle Creek | +758
|  |  | Approximately 1500 feet upstream of railroad spur | +843
|  | Tributary No. 5 | Confluence with Rock Castle Creek | +740
|  |  | Approximately 200 feet upstream of Lynchburg Expressway | +783
|  | Tributary No. 6 | Confluence with Rock Castle Creek | +740
|  |  | Approximately 800 feet upstream of Edgewood Drive | +804
* National Geodetic Vertical Datum.
+ North American Vertical Datum.
# Depth in feet above ground.
ADDRESSES
City of Lynchburg
Maps are available for inspection at 900 Church Street, 2nd Floor Planning Division, Lynchburg, VA 24504.

Flooding source(s) | Location of referenced elevation | *Elevation in feet (NGVD) +Elevation in feet (NAVD) #Depth in feet above ground (modified) | Communities affected
Pearl River County, Mississippi, and Incorporated Areas
Docket No.: FEMA-B-7720
East Hobolochitto Creek | Just upstream of West Union Road | +86 | Pearl River County (Unincorporated Areas).
| Approximately 420 feet upstream of Savannah Millard Road | +147
Jumpoff Creek | At the confluence with East Hobolochitto Creek | +162 | Pearl River County (Unincorporated Areas).
| Just upstream of Norfolk Southern Railroad | +238
Juniper Creek | At the confluence with East Hobolochitto Creek | +166 | Pearl River County (Unincorporated Areas).
| Approximately 1,900 feet upstream of Dupont-Harris Road | +252
Long Branch | At the confluence with West Hobolochitto Creek | +72 | Pearl River County (Unincorporated Areas).
| Approximately 6,900 feet upstream of Nelle Burkes Road | +161
Mill Creek No. 1 | At the Pearl River-Hanconk County Boundary | +79 | Pearl River County (Unincorporated Areas).
| Approximately 4,800 feet upstream of Mill Creek 2 Tributary 4 | +175
No. 3 | Approximately 170 feet upstream of Boley Bypass Road | +54 | Pearl River County (Unincorporated Areas).
| Approximately 14,600 feet upstream of Highway 11 | +180
No. 4 | Just upstream of the dam | +91 | Pearl River County (Unincorporated Areas).
| Approximately 6,200 feet upstream of Rock Ranch Road | +143
West Hobolochitto Creek | Approximately 600 feet downstream of Henleyfield-McNeill Road | +98 | Pearl River County (Unincorporated Areas).
| Approximately 200 feet upstream of Highway 26 | +130
White Sand Creek | At the confluence with West Hobolochitto Creek | +129 | Pearl River County (Unincorporated Areas).
| Approximately 4,050 feet upstream of White Sand Creek Tributary 7 | +247
Wolf River | Approximately 16,100 feet downstream of McNeill-McHenry Road | +120 | Pearl River County (Unincorporated Areas).
| Approximately 2,500 feet upstream of Highway 11 | +241
*National Geodetic Vertical Datum.
+North American Vertical Datum.
#Depth in feet above ground.
ADDRESSES
Pearl River County (Unincorporated Areas)
Maps are available for inspection at Department of Planning and Development, 167 Savannah-Millard Road, Poplarville, MS 39470.
Warren County, Virginia, and Incorporated Areas
Docket No.: FEMA-B-7705
North Fork Shenandoah River | Confluence with South Fork Shenandoah River | +498 | Warren County (Unincorporated Areas).
| Town of Front Royal Corporate Limits (approximately 1.46 miles upstream of confluence with Shenandoah River) | +498
South Fork Shenandoah River | Confluence of Punches Run | +500 | Warren County (Unincorporated Areas).
| Town of Front Royal Corporate Limits (just upstream of Catlett Mountain Road and Luray Avenue) | +506
*National Geodetic Vertical Datum.
+North American Vertical Datum.
#Depth in feet above ground.
ADDRESSES
Warren County (Unincorporated Areas)
Maps are available for inspection at 220 North Commerce Avenue, Suite 400, Front Royal, VA 22630.

(Catalog of Federal Domestic Assistance No. 97.022, “Flood Insurance.”)

Dated: December 14, 2007.
David I. Maurstad,
Federal Insurance Administrator of the National Flood Insurance Program, Department of Homeland Security, Federal Emergency Management Agency.

[FR Doc. E7-25288 Filed 12-27-07; 8:45 am]

BILLING CODE 9110-12-P